DEPARTMENT OF LABOR

Occupational Safety and Health Administration

[Docket No. OSHA-2020-0003]

Advisory Committee on Construction Safety and Health (ACCSH): Notice of ACCSH Workgroup Meetings

AGENCY: Occupational Safety and Health Administration (OSHA), Labor.

ACTION: Announcement of teleconference meetings of ACCSH workgroups.

SUMMARY: ACCSH will hold teleconference meetings of the Education, Training and Outreach workgroup and the Emerging and Current Issues workgroup on March 5, 2020.

DATES: The Education, Training and Outreach workgroup will meet from 10:00 a.m. to 12:00 p.m., ET, and the Emerging and Current Issues workgroup will meet from 1:00 p.m. to 3:00 p.m., ET, Thursday, March 5, 2020, by teleconference.

ADDRESSES:

Submission of comments and requests to speak: Submit comments and requests to speak at the ACCSH workgroup meetings by February 28, 2020, identified by the docket number for this Federal Register notice (Docket No. OSHA-2020-0003), using one of the following methods:

Electronically: You may submit comments, including attachments, electronically at: http://www.regulations.gov, the Federal eRulemaking Portal. Follow the online instructions for submitting comments.

Facsimile: If your comments, including attachments, do not exceed 10 pages, you may fax them to the OSHA Docket Office at (202) 693-1648.

Regular mail, express mail, hand delivery, and messenger or courier service: You may submit comments and attachments to the OSHA Docket Office, Docket No. OSHA-2020-0003, Occupational Safety and Health Administration, U.S. Department of Labor, Room N-3653, 200 Constitution Avenue NW, Washington, DC 20210. Deliveries (express mail, hand (courier) delivery, and messenger service) are accepted during the OSHA Docket Office's normal business hours, Monday-Friday, 10:00 a.m. to 3:00 p.m., ET.

Instructions: All submissions must include the agency name and the OSHA docket number for this Federal Register notice (Docket No. OSHA-2020-0003). Because of security-related procedures, submissions by regular mail may result in a significant delay in receipt. Please contact the OSHA Docket Office for information about security procedures for making submissions by express mail, hand (courier) delivery, and messenger service.

Requests for special accommodations: Please submit requests for special accommodations for this ACCSH meeting by February 28, 2020, to Ms. Gretta Jameson, OSHA, Directorate of Construction, Room N-3476, U.S. Department of Labor, telephone: (202) 693-2020; email: jameson.grettah@dol.gov.

FOR FURTHER INFORMATION CONTACT:

For press inquiries: Mr. Frank Meilinger, Director, OSHA Office of Communications, U.S. Department of Labor; telephone (202) 693-1999; email: meilinger.francis2@dol.gov.

For general information about ACCSH: Mr. Damon Bonneau, OSHA, Directorate of Construction, U.S. Department of Labor; telephone (202) 693-2183; email: bonneau.damon@dol.gov.

For copies of this Federal Register Notice: Electronic copies of this Federal Register notice are available at: http://www.regulations.gov. This notice, as well as news releases and other relevant information, are also available at OSHA's web page at: www.osha.gov.

SUPPLEMENTARY INFORMATION:

I. Background

ACCSH advises the Secretary of Labor and the Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.) (see also 29 CFR 1911.10 and 1912.3). In addition, the OSH Act and CSA require the Assistant Secretary to consult with ACCSH before the agency proposes any occupational safety and health standard affecting construction activities (29 CFR 1911.10; 40 U.S.C. 3704).

ACCSH operates in accordance with the CSA, the OSH Act, the Federal Advisory Committee Act (FACA) (5 U.S.C. App. 2), and regulations issued pursuant to those statutes (29 CFR part 1912, 41 CFR part 102-3). ACCSH generally meets two times a year.

II. Meeting Information

Attending the meeting: Attendance at this ACCSH meeting will be by teleconference only. The dial-in number and passcode for the meeting are as follows: Dial-in number: 1-888-658-5408; Passcode: 7001480. For additional information about the telecommunication requirements for the meeting, please contact Ms. Veneta Chatmon, OSHA, Directorate of Construction, Room N-3468, U.S. Department of Labor, telephone (202) 693-2020; email: chatmon.veneta@dol.gov.

Meeting agenda: The tentative agendas for the workgroup meetings include:

• Education, Training and Outreach workgroup:

1. Trench Safety.

2. Fall Prevention.

• Emerging and Current Issues workgroup:

1. Opioids.

2. Suicides in construction.

Requests to speak at ACCSH meeting: Attendees who want to address the workgroups must submit a request to speak, as well as any written or electronic presentation, by February 28, 2020, using one of the methods listed in the ADDRESSES section. The request must state:

• The amount of time requested to speak;

• The interest you represent (e.g., business, organization, affiliation), if any; and

• A brief outline of your presentation.

OSHA will place comments and requests to speak, including personal information, in the public docket, which will be available online. Therefore, OSHA cautions interested parties about submitting personal information such as Social Security Numbers and birthdates.

Docket: To read or download documents in the public docket for this ACCSH meeting, go to http://www.regulations.gov. All documents in the public docket are listed in the index; however, some documents (e.g., copyrighted material) are not publicly available to read or download through http://www.regulations.gov. All submissions are available for inspection and, when permitted, copying at the OSHA Docket Office at the above address. For information on using http://www.regulations.gov to make submissions or to access the docket, click on the “Help” tab at the top of the homepage. Contact the OSHA Docket Office for information about materials not available through that website and for assistance in using the internet to locate submissions and other documents in the docket.

Authority and Signature

Loren Sweatt, Principal Deputy Assistant Secretary of Labor for Occupational Safety and Health, authorized the preparation of this notice under the authority granted by 29 U.S.C. 655(b)(1) and 656(b), 5 U.S.C. App. 2, Secretary of Labor's Order No. 1-2012 (77 FR 3912), and 29 CFR part 1912.

Signed at Washington, DC, on February 13, 2020.
Loren Sweatt,
Principal Deputy Assistant Secretary of Labor for Occupational Safety and Health.

[FR Doc. 2020-03665 Filed 2-24-20; 8:45 am]

BILLING CODE 4510-26-P